DEPARTMENT OF COMMERCE

International Trade Administration

[C-552-819]

Certain Steel Nails From the Socialist Republic of Vietnam: Rescission of Countervailing Duty Administrative Review; 2017

AGENCY: Enforcement and Compliance, International Trade Administration, Department of Commerce.

SUMMARY: The Department of Commerce (Commerce) is rescinding the administrative review of the countervailing duty (CVD) order on certain steel nails (steel nails) from the Socialist Republic of Vietnam (Vietnam) for the period January 1, 2017, through December 31, 2017.

DATES: Applicable April 24, 2019.

FOR FURTHER INFORMATION CONTACT: Yasmin Bordas, AD/CVD Operations, Office VI, Enforcement and Compliance, International Trade Administration, U.S. Department of Commerce, 1401 Constitution Avenue NW, Washington, DC 20230; telephone: (202) 482-3813.

SUPPLEMENTARY INFORMATION:

Background

On July 3, 2018, Commerce published a notice of opportunity to request an administrative review of the CVD order on steel nails from Vietnam for the period January 1, 2017, through December 31, 2017.¹ On July 31, 2018, Commerce received a timely request, in accordance with section 751(a) of the Tariff Act of 1930, as amended (the Act), from Mid Continent Steel & Wire Inc. (the petitioner) to conduct an administrative review of this CVD order with respect to 12 companies.² Based upon this request, on September 10, 2018, in accordance with section 751(a) of the Act, Commerce published in the Federal Register a notice of initiation of administrative review for this CVD order.³ On November 5, 2018, the petitioner timely withdrew its request for an administrative review for each of the 12 companies.⁴

¹ See Antidumping or Countervailing Duty Order, Finding, or Suspended Investigation; Opportunity To Request Administrative Review, 83 FR 31121 (July 3, 2018).

² See Letter from the petitioner re: Certain Steel Nails from Vietnam: Request for Administrative Reviews, dated July 31, 2018.

³ See Initiation of Antidumping and Countervailing Duty Administrative Reviews, 83 FR 45596 (September 10, 2018) (Initiation Notice).

⁴ See Letter from the petitioner re: Certain Steel Nails from Vietnam: Withdrawal of Request for Administrative Reviews, dated November 5, 2018.

Rescission of Review

Pursuant to 19 CFR 351.213(d)(1), the Secretary will rescind an administrative review, in whole or in part, if a party who requested the review withdraws the request within 90 days of the date of publication of the notice of initiation of the requested review. As noted above, the petitioner withdrew its request for review by the 90-day deadline. No other party requested an administrative review. Accordingly, we are rescinding the administrative review of the CVD order on steel nails from Vietnam covering the period January 1, 2017, to December 31, 2017.

Assessment

Commerce will instruct U.S. Customs and Border Protection (CBP) to assess CVDs on all appropriate entries at a rate equal to the cash deposit of estimated CVDs required at the time of entry, or withdrawal from warehouse, for consumption, during the period January 1, 2017, to December 31, 2017, in accordance with 19 CFR 351.212(c)(1)(i). Commerce intends to issue appropriate assessment instructions directly to CBP 15 days after publication of this notice in the Federal Register.

Notification to Importers

This notice serves as the only reminder to importers of their responsibility under 19 CFR 351.402(f)(2) to file a certificate regarding the reimbursement of countervailing duties prior to liquidation of the relevant entries during this review period. Failure to comply with this requirement could result in the presumption that reimbursement of the countervailing duties occurred and the subsequent assessment of doubled countervailing duties.

Notification Regarding Administrative Protective Order

This notice also serves as the only reminder to parties subject to administrative protective order (APO) of their responsibility concerning the return or destruction of proprietary information disclosed under an APO in accordance with 19 CFR 351.305(a)(3). Timely written notification of the return/destruction of APO materials or conversion to judicial protective order is hereby requested. Failure to comply with the regulations and terms of an APO is a violation which is subject to sanction. This notice is issued and published in accordance with sections 751(a)(1) of the Act and 19 CFR 351.213(d)(4).

Dated: April 16, 2019.
Gary Taverman,
Deputy Assistant Secretary for Antidumping and Countervailing Duty Operations.

[FR Doc. 2019-08271 Filed 4-23-19; 8:45 am]

BILLING CODE 3510-DS-P